DEPARTMENT OF THE INTERIOR

Bureau of Land Management

[ID-300-1020-PH]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The meeting will be held January 20 and 21, 2005 at the BLM Idaho Falls District Office, 1405 Hollipark Drive, in Idaho Falls, Idaho. The meeting will start at 1 p.m. January 20, with the public comment period as the first agenda item. The meeting will adjourn at or before 2 p.m. on the following day.

SUPPLEMENTARY INFORMATION: The 15-member Council advises the Secretary of the Interior, through the Bureau of Land Management, on a variety of planning and management issues associated with public land management in the BLM Idaho Falls District (IFD), which covers eastern Idaho. At this meeting, topics we plan to discuss include:

• Sage Grouse Conservation strategies (BLM national, and State of Idaho if completed).

• A presentation about tribal treaty rights by the Shoshone-Bannock Tribes.

• The South Fork of the Snake River Activity Plan (Upper Snake Field Office) public outreach opportunities.

• Idaho Falls District operations plan.

• Other current issues as appropriate.

• Other items of interest raised by the Council.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. Email: David_Howell@blm.gov.

Dated: December 17, 2004.
LeRoy Cook,
Associate District Manager.

[FR Doc. 04-28143 Filed 12-23-04; 8:45 am]

BILLING CODE 4310-GG-P